DEPARTMENT OF HEALTH AND HUMAN SERVICES

Health Resources and Services Administration

Centers for Disease Control and Prevention (CDC)/Health Resources and Services Administration (HRSA) Advisory Committee on HIV, Viral Hepatitis, and Sexually Transmitted Disease (STD) Prevention and Treatment

AGENCY: Health Resources and Services Administration (HRSA), HHS.

ACTION: Notice; correction.

SUMMARY: HRSA is requesting nominations to fill three vacancies on the CDC/HRSA Advisory Committee on HIV, Viral Hepatitis and STD Prevention and Treatment (CHACHSPT). The action is to provide correction listed under addresses to provide more time for public input.

FOR FURTHER INFORMATION CONTACT: Shelley B. Gordon, Public Health, Analyst, HIV/AIDS Bureau, HRSA, 5600 Fishers Lane, Room 7C-26, Rockville, Maryland 20857, email at sgordon@hrsa.gov, or telephone at (301) 443-9684.

Correction

In the Federal Register, FR 2014-19199 (August 14, 2014), please make the following corrections:

In the ADDRESSES Section please change the date all nominations should be submitted by to no later than September 15, 2014.

Dated: August 19, 2014.
Jackie Painter,
Acting Director, Division of Policy and Information Coordination.

[FR Doc. 2014-20313 Filed 8-25-14; 8:45 am]

BILLING CODE 4165-15-P